DEPARTMENT OF THE INTERIOR

Fish and Wildlife Service

Cameron Prairie National Wildlife Refuge

AGENCY: Fish and Wildlife Service, Interior.

ACTION: Notice of availability of the Draft Comprehensive Conservation Plan and Environmental Assessment for Cameron Prairie National Wildlife Refuge in Cameron Parish, Louisiana.

SUMMARY: The notice announces that a Draft Comprehensive Conservation Plan and Environmental Assessment for Cameron Prairie National Wildlife Refuge is now available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation and photography, and environmental education and interpretation.

Proposed goals for the refuge include:

• Preserving, restoring, and enhancing diverse habitats to provide favorable conditions for migratory and native wildlife species;

• Maintaining healthy and viable native fish and wildlife populations on the refuge to contribute to the purpose for which it was established and to the mission of the National Wildlife Refuge System;

• Providing opportunities for safe, quality, compatible, wildlife-dependent public use and recreation, which includes hunting, fishing, wildlife observation, wildlife photography, and environmental education and interpretation;

• Protecting cultural resources in accordance with Federal and state historic preservation legislation and regulations; and

• Developing and maintaining the Southwest Louisiana National Wildlife Refuge Complex Headquarters in a manner that supports, directs, and manages the needs, resources, and staff of Cameron Prairie, Sabine, and Lacassine National Wildlife Refuges.

Also available for review are the draft compatibility determinations for: recreational fishing; recreational hunting; environmental education and interpretation; wildlife observation and photography; commercial alligator harvest; commercially guided wildlife viewing, photography, environmental education, and interpretation; research and monitoring; commercial video and photography; adjacent property access; and beneficial use of dredge material.

Proposed Action

The proposed action is to adopt and implement a 15-year comprehensive conservation plan for management that best achieves the refuge's purpose, vision, and goals; contributes to the National Wildlife Refuge System mission; addresses the significant issues and relevant mandates; and is consistent with principles of sound fish and wildlife management. The Service analyzed three alternatives for future management and chose Alternative B as the one to best achieve all of these elements.

Alternatives

The draft comprehensive conservation plan and environmental assessment evaluates three alternatives for managing the refuge over the next 15 years. These alternatives are briefly described as follows:

Alternative A represents the status quo; e.g., no changes from current management of the refuge. The refuge would continue with approximately the same direction, emphases, constraints, and priorities that have characterized management decisions and actions in recent years. Habitats would be managed under current policies. Removal of undesirable plants and animals would occur as funding and staffing permit. Cultural resources would be protected at current levels. Public use opportunities would remain the same as current levels.

Under Alternative B, the Service's proposed action, the quality and quantity of habitat for wintering waterfowl would be maximized by focusing on a more adaptive management approach through improved biological monitoring. Alternative B would best support the purpose for which the refuge was established.

The refuge would be managed with an active hands-on, labor intensive approach. The refuge would intensely manage up to 1,500 acres of early successional wetlands. Succession would be controlled with more aggressive drawdown cycles, more frequent soil disturbance, and by implementing a more focused fire management program. Public use opportunities would generally increase under this alternative but hunting and fishing opportunities would remain at the same level that is currently occurring with the exception of rabbit hunting. Facilities such as trails, boardwalks, observation platforms, and photography blinds would be improved. The refuge would increase its emphasis on environmental education and interpretation.

Archery hunting for resident deer would continue to manage populations and provide hunting opportunities for archers. Snipe and dove hunting would continue. A lottery waterfowl hunt would be allowed for youth with parental or guardian supervision. The purpose of the youth hunt is to provide opportunities for public access to waterfowl hunting because these opportunities are limited state-wide and would introduce young hunters to a safe controlled hunting environment. The experimental rabbit hunt would be discontinued due to declining public interest and conflicting management activities. Habitat that is managed for wintering waterfowl is not favorable for a quality rabbit hunt and harvest. Commercial alligator harvest would continue in cooperation with Louisiana Department of Wildlife and Fisheries and would be by lottery only. Commercial guides for wildlife viewing, photography, and environmental education and interpretation would be permitted. Existing fishing areas on the refuge would be improved. Research and monitoring would be enhanced. Programs that promote the beneficial use of dredge material would be allowed. Current partnerships that assist the refuge in accomplishing its conservation objectives would continue under this alternative, however, the refuge would strive to develop new partnerships with conservation groups and state agencies. Communication with local landowners and community groups would continue in order to promote wildlife conservation and the National Wildlife Refuge System. A more aggressive approach to removal of undesirable plants and animals would be implemented. Cultural resources would continue to be protected and interpretation of cultural resources would be improved.

Under Alternative C, the refuge would degrade all levees to an extent defined as the “neareast marsh elevation found in the area.” The refuge would then be in custodial form. No active habitat management would be applied. Staff would serve as caretakers of the refuge, observing and monitoring the natural forces and ecological succession that would shape its habitats and effectively determine their suitability for wildlife. Water management capability would cease and no mechanical or prescribed fire disturbances would occur. Use of fire would be limited to hazardous fuel reduction and suppression of wildfires. Removal of undesirable plants and animals would be minimal. Enjoyment of opportunities for public use may decline because wildlife diversity and abundance may be reduced under this alternative. Cultural resources would continue to be protected and interpretation of cultural resources would be improved.

Actions Common to All Alternatives

All three alternatives share the following management concepts and techniques for achieving the goals of the refuge:

• Protecting a variety of freshwater marsh and upland prairie habitat;

• Serving as a critical resting area for waterfowl in a heavily hunted area;

• Establishing, maintaining, and improving partnerships with landowners and local, state, and Federal agencies and organizations;

• Coordinating management actions with local and state land and resource managment agencies; and

• Encouraging scientific research on the refuge.

DATES: An Open House will be held at the refuge on August 18, 2005, from 2 p.m. to 7 p.m. to present the plan to the public. The refuge headquarters is located at 1428 Highway 27, Bell City, Louisiana. Individuals wishing to comment on the Draft Comprehensive Conservation Plan and Environmental Assessment for Cameron Prairie National Wildlife Refuge should do so no later than September 12, 2005. Public comments were requested, considered, and incorporated throughout the planning process. Public outreach has included public scoping meetings, technical workgroups, planning updates, and a Federal Register notice.

ADDRESSES: Requests for copies of the Draft Comprehensive Conservation Plan and Environmental Assessment should be addressed to Judy McClendon, Natural Resource Planner, Southwest Louisiana National Wildlife Refuge Complex, Cameron Prairie National Wildlife Refuge, 1428 Highway 27, Bell City, Louisiana 70630; Telephone 337/598-2216; Fax 337/598-2492. Comments on the draft may be sumitted to the above address or via electronic mail to judy_mcclendon@fws.gov. Please include your name and return address in your internet message. Our practice is to make comments, including names and home addresses of respondents, available for public review during regular business hours. Individual respondents may request that we withhold their home addresses from the record, which we will honor to the extent allowable by law.

SUPPLEMENTARY INFORMATION: Cameron Prairie National Wildlife Refuge, located in southwestern Louisiana, consists of 9,621 acres of freshwater marsh, coastal prairie, and early successional wetlands, and is managed to preserve and protect wintering waterfowl and their habitat. Cameron Prairie is one of three refuges comprising the Southwest Louisiana National Wildlife Refuge Complex. Annually, about 30,000 visitors participate in refuge activities, including recreational fishing, recreational hunting, wildlife photography, wildlife observation, and environmental education and interpretation.

Authority: This notice is published under the authority of the National Wildlife Refuge System Improvement Act of 1997, Public Law 105-57.

Dated: January 6, 2004.
Cynthia K. Dohner,
Acting Regional Director.
Editorial note:
This document was received at the Office of the Federal Register July 22, 2005.

[FR Doc. 05-14785 Filed 7-26-05; 8:45 am]

BILLING CODE 4310-55-M